DEPARTMENT OF DEFENSE

Department of the Army; Corps of Engineers

Notice of Intent To Grant Partially Exclusive License of the United States Patent Application No. 12/243,084, Filed October 01, 2008, Entitled: Soluble Salt Produced From a Biopolymer and a Process for Producing the Salt

AGENCY: Department of the Army, U.S. Army Corps of Engineers, DoD.

ACTION: Notice of intent.

SUMMARY: In accordance with 37 CFR 404.7(a)(1)(i), announcement is made of a prospective exclusive license of the following U.S. Patent Application 12/243,084 Filed October 1, 2008.

DATES: Written objections must be filed not later than 15 days following publication of this announcement.

ADDRESSES: United States Army Engineer Research and Development Center, ATTN: CEERD-ZA-T (Ms. Bea Shahin), 2902 Newmark Drive, Champaign, IL 6182-1076.

FOR FURTHER INFORMATION CONTACT: Ms. Bea Shahin (217) 373-7234, FAX (217) 373-7210, e-mail: Bea.S.Shahin@usace.army.mil.

SUPPLEMENTARY INFORMATION: This patent application claims a method by which a biologically natural material can be produced in bioreactors and transformed for use as a dry solid. The resulting biopolymer material can be used in place of synthetic, petroleum-based polymers for soil amendment applications to achieve increased soil strength, reduced air transport, and decreased soil erosion. During processing, the biopolymer also can be functionalized to improve its adsorption of heavy metals.

Brenda S. Bowen,
Army Federal Register Liaison Officer.

[FR Doc. 2010-13668 Filed 6-7-10; 8:45 am]

BILLING CODE 3720-58-P